CONSUMER PRODUCT SAFETY COMMISSION

Sunshine Act Meeting

TIME AND PLACE: Tuesday, June 13, 2017, 10:00 a.m.-12:00 p.m.

PLACE: Hearing Room 420, Bethesda Towers, 4330 East West Highway, Bethesda, Maryland.

STATUS: Commission Meeting—Open to the Public.

MATTER TO BE CONSIDERED:

DECISIONAL MATTER: Fiscal Year 2017 Midyear Review and Proposed Operating Plan Adjustments.

A live webcast of the Meeting can be viewed at www.cpsc.gov/live.

CONTACT PERSON FOR MORE INFORMATION: Todd A. Stevenson, Office of the Secretary, U.S. Consumer Product Safety Commission, 4330 East-West Highway, Bethesda, MD 20814, (301) 504-7923.

Dated: June 5, 2017.
Todd A. Stevenson,
Secretary.

[FR Doc. 2017-11982 Filed 6-6-17; 11:15 am]

BILLING CODE 6355-01-P